DEPARTMENT OF LABOR

Occupational Safety and Health Administration

[Docket No. ICR-1218-0197 (2004)]

Construction Fall Protection Plans and Training Requirements (29 CFR 1926.502 and 1926.503); Extension of the Office of Management and Budget's (OMB) Approval of Information Collection (Paperwork) Requirements

AGENCY: Occupational Safety and Health Administration (OSHA), Labor.

ACTION: Request for comment.

SUMMARY: OSHA solicits comments concerning its proposal to extend OMB approval of the information collection requirement contained in the construction standard for fall protection. The Standard allows employers to develop alternative procedures to the use of conventional fall protection systems when the systems are infeasible or create a greater hazard. The alternative procedures (plan) must be written. Also, employers who use safety net systems may certify that the installation meets the standard's criteria in lieu of performing a drop-test on the net. In addition, employers are required to prepare training certification records for their employees. The plan and certification records ensure that employers comply with the requirements to protect workers from falls, which account for the largest number of fatalities among construction workers.

DATES: Comments must be submitted by the following dates:

Hard Copy: Your comments must be submitted by (postmarked or received) by February 23, 2004.

Facsimile and electronic transmission: Your comments must be received by February 23, 2004.

ADDRESSES:

I. Submission of Comments

Regular mail, express delivery, hand-delivery, and messenger service: Submit your comments and attachments to the OSHA Docket Office, Docket No. ICR-1218-0197 (2004), Room N-2625, U.S. Department of Labor, 200 Constitution Avenue, NW., Washington, DC 20210. OSHA Docket Office and Department of Labor hours of operation are 8:15 a.m. to 4:45 p.m. EST.

Facsimile: If your comments, including any attachments, are 10 pages or fewer, you may fax them to the OSHA Docket Office at (202) 693-1648. You must include the docket number of this document, Docket No. ICR-1218-0197 (2004), in your comments.

Electronic. You may submit comments, but not attachments, through the Internet at http://ecomments.osha.gov.

II. Obtaining Copies of Supporting Statement for the Information Collection

The Supporting Statement for the Information Collection is available for downloading from OSHA's Web site at http://www.osha.gov. The supporting statement is available for inspection and copying in the OSHA Docket Office, at the address listed above. A printed copy of the supporting statement can be obtained by contacting Todd Owen at (202) 693-2222.

FOR FURTHER INFORMATION CONTACT: Noah Connell, Directorate of Construction, OSHA, U.S. Department of Labor, Room N-3467, 200 Constitution Avenue, NW., Washington, DC 20210; telephone: (202) 693-2020.

SUPPLEMENTARY INFORMATION:

I. Submission of Comments on This Notice and Internet Access to Comments and Submissions

You may submit comments in response to this document by (1) hard copy, (2) FAX transmission (facsimile), or (3) electronically through the OSHA webpage. Please note you cannot attach materials such as studies or journal articles to electronic comments. If you have additional materials, you must submit three copies of them to the OSHA Docket Office at the address above. The additional materials must clearly identify your electronic comments by name, date, subject and docket number so we can attach them to your comments. Because of security-related problems there may be a significant delay in the receipt of comments by regular mail. Please contact the OSHA Docket Office at (202) 693-2350 for information about security procedures concerning the delivery of materials by express delivery, hand delivery and messenger service.

II. Background

The Department of Labor, as part of its continuing effort to reduce paperwork and respondent (i.e. employer) burden, conducts a preclearance consultation program to provide the public with an opportunity to comment on proposed and continuing information collection requirements in accordance with the Paperwork Reduction Act of 1995 (PRA-95) (44 U.S.C. 3506(c)(2)(A)).

This program ensures that information is in the desired format, reporting burden (time and cost) is minimal, collection instruments are clearly understood, and OSHA's estimate of the information collection burden is correct. The Occupational Safety and Health Act of 1970 (the Act) authorizes information collection by employers as necessary or appropriate for enforcement of the Act or for developing information regarding the causes and prevention of occupational injuries, illnesses, and accidents (29 U.S.C. 657).

The standards on Construction Fall Protection Systems Criteria and Practice (29 CFR 1926.502) and Training Requirements (29 CFR 1926.503) ensure that employers provide the required fall protection for their employees. Accordingly, these standards have the following paperwork requirements: Paragraphs (c)(4)(ii) and (k) of 29 CFR 1926.502, which specify certification of safety nets and development of fall-protection plans, respectively, and paragraph (b) of 29 CFR 1926.502, which requires employers to certify training records. The training-certification requirement specified in paragraph (b) of 29 CFR 1926.503 documents the training provided to employees potentially exposed to fall hazards. A competent person must train these employees to recognize fall hazards and in the use of procedures and equipment that minimize these hazards. An employer must verify compliance with this training requirement by preparing and maintaining a written certification record that contains the: Name or other identifier of the employee receiving the training; the date(s) of the training; and the signature of the competent person who conducted the training or of the employer.

III. Special Issues for Comment

OSHA has a particular interest in comments on the following issues:

• Whether the proposed information collection requirements are necessary for the proper performance of the Agency's functions to protect workers, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

IV. Proposed Actions

OSHA is proposing to extend the information collection requirements in the Construction Fall Protection Plans and Records (29 CFR 1926.502 and 1926.503). The Agency is proposing to increase the burden by 149,895 hours, from 771,166 hours to 921,061 hours, mainly as a result of increasing the estimated number of fall protection plans. The fall protection plan and certification records of net drop test and training are needed to help employees identify fall hazards and to know which protective measures are to be used.

OSHA will summarize the comments submitted in response to this notice, and will include this summary in the request to OMB to extend the approval of the information collection requirements contained in the Construction Fall Protection Plans and Records Standard.

Type of Review: Extension of a currently-approved information collection requirement.

Title: Construction Fall Protection Plans and Training Requirements in Construction (29 CFR 1926.502 and 1926.503).

OMB Number: 1218-0197.

Affected Public: Business or other for-profit.

Number of Respondents: 100,080.

Frequency: On occasion.

Average Time Per Response: Varies (i.e., 5 minutes (.08 hour) to certify a safety net to 65 minutes to develop and write a fall-protection plan).

Estimated Total Burden Hours: 921,061.

Estimated Cost (Operation and Maintenance): 0.

V. Authority and Signature

John L. Henshaw, Assistant Secretary of Labor for Occupational Safety and Health, directed the preparation of this notice. The authority for this notice is the Paperwork Reduction Act of 1995 (44 U.S.C. 3506), and Secretary of Labor's Order No. 5-2002 (67 FR 65008).

Signed at Washington, DC on December 17, 2003.
John L. Henshaw,
Assistant Secretary of Labor.

[FR Doc. 03-31550 Filed 12-22-03; 8:45 am]

BILLING CODE 4510-26-M